SOCIAL SECURITY ADMINISTRATION

20 CFR Part 405

[Docket No. SSA-2014-0034]

RIN 0960-AH67

Extension of Expiration Date for Temporary Pilot Program Setting the Time and Place for a Hearing Before an Administrative Law Judge; Correction

AGENCY: Social Security Administration.

ACTION: Correction amendment.

SUMMARY: The Social Security Administration published a final rule document in the Federal Register on July 18, 2014 (79 FR 41881), extending the expiration date for the Temporary Pilot Program Setting the Time and Place for a Hearing Before an Administrative Law Judge. That document inadvertently had a timing issue with § 405.315(e) not being codified by the July 18, 2014 publication. Section 405.315(e) was codified on July 25, 2014. This document corrects the final regulation by revising the now codified § 405.315(e).

DATES: Effective on July 31, 2014, and applicable beginning July 25, 2014.

FOR FURTHER INFORMATION CONTACT: Brian J. Rudick, Office of Regulations and Reports Clearance, Social Security Administration, 6401 Security Boulevard, Baltimore, MD 21235-6401, (410) 965-7102. For information on eligibility or filing for benefits, call our national toll-free number, 1-800-772-1213, or TTY 1-800-325-0778, or visit our Internet site, Social Security Online, at http://www.socialsecurity.gov.

SUPPLEMENTARY INFORMATION: We published a final rule document in the Federal Register of July 18, 2014, (79 FR 41883) extending the expiration date for the Temporary Pilot Program Setting the Time and Place for a Hearing Before an Administrative Law Judge in our regulations. In this final rule, we inadvertently had a timing issue with section 405.315(e) not being codified by the July 18, 2014 publication. Section 405.315(e) was codified on July 25, 2014. This document corrects the final regulation by revising the now codified section 405.315(e).

List of Subjects in 20 CFR Part 405

Administrative practice and procedure, Blind, Disability benefits, Old-Age, Survivors, and Disability Insurance, Public assistance programs, Reporting and recordkeeping requirements, Social Security, Supplemental Security Income (SSI).

Accordingly, 20 CFR chapter III, part 405 is corrected by making the following correcting amendment:

PART 405—ADMINISTRATIVE REVIEW PROCESS FOR ADJUDICATING INITIAL DISABILITY CLAIMS

1. The authority citation for part 405 continues to read as follows:

Authority: Secs. 201(j), 205(a)-(b), (d)-(h), and (s), 221, 223(a)-(b), 702(a)(5), 1601, 1602, 1631, and 1633 of the Social Security Act (42 U.S.C. 401(j), 405(a)-(b), (d)-(h), and (s), 421, 423(a)-(b), 902(a)(5), 1381, 1381a, 1383, and 1383b).

Subpart D—[Amended]

2. In § 405.315, revise the second sentence in paragraph (e) to read as follows:

§ 405.315 Time and place for a hearing before an administrative law judge.

* * * * *

(e) Pilot program. * * * These provisions will no longer be effective on August 10, 2015, unless we terminate them earlier or extend them beyond that date by notice of a final rule in the Federal Register.

Paul Kryglik,
Director, Office of Regulations and Reports Clearance.

[FR Doc. 2014-17976 Filed 7-30-14; 8:45 am]

BILLING CODE 4191-02-P